DEPARTMENT OF THE INTERIOR

Fish and Wildlife Service

[FWS-R8-R-2010-N202; 80230-1265-0000-S3]

Ellicott Slough National Wildlife Refuge, Santa Cruz County, CA; Final Comprehensive Conservation Plan and Finding of No Significant Impact

AGENCY: Fish and Wildlife Service, Interior.

ACTION: Notice of availability.

SUMMARY: We, the U.S. Fish and Wildlife Service (Service), announce the availability of our final Comprehensive Conservation Plan (CCP) and finding of no significant impact (FONSI) for the Ellicott Slough National Wildlife Refuge (Refuge). In the CCP, we describe how we will manage the Refuge for the next 15 years.

DATES: The CCP and FONSI are available now. The FONSI was signed on September 29, 2010. Implementation of the CCP may begin immediately.

ADDRESSES: You may view or obtain copies of the final CCP and FONSI/EA by any of the following methods. You may request a hard copy or CD-ROM.

Agency Web Site: Download a copy of the document(s) at http://www.fws.gov/sfbayrefuges/Ellicott/Ellicott_CCP.htm.

E-mail: fw8plancomments@fws.gov. Include “Ellicott Slough CCP” in the subject line of the message.

Fax: Attn: Sandy Osborn, (916) 414-6497.

Mail: Pacific Southwest Region, Refuge Planning, U.S. Fish and Wildlife Service, 2800 Cottage Way, W-1832, Sacramento, CA 95825-1846.

In-Person Viewing or Pickup: Call 510-792-0222 to make an appointment during regular business hours at San Francisco Bay National Wildlife Refuge Complex, 1 Marshlands Road, Fremont, CA 94536.

Local Library: The final document is also available at the Watsonville Main Public Library, 275 Main Street, Suite 100, Watsonville, CA 95076.

FOR FURTHER INFORMATION CONTACT: Sandy Osborn, Planning Team Leader, at (916) 414-6503 (See ADDRESSES), or Diane Kodama, Refuge Manager, at (510) 792-0222.

SUPPLEMENTARY INFORMATION:

Background

Ellicott Slough National Wildlife Refuge was established in 1975 under the Endangered Species Act of 1973, as amended (16 U.S.C. 1531 et seq.), and the Emergency Wetlands Resources Act of 1986 (16 U.S.C. 3901-3932). The nearly 300-acre Ellicott Slough National Wildlife Refuge, located in Santa Cruz County, California, consists of three noncontiguous units within the Watsonville Slough System. The Refuge was established to protect the endangered Santa Cruz long-toed salamander, and currently supports 2 of the 20 known breeding populations of the salamander.

We announce our decision and the availability of the FONSI for the final CCP for Ellicott Slough in accordance with National Environmental Policy Act (NEPA) (40 CFR 1506.6(b)) requirements. We completed a thorough analysis of impacts on the human environment, which we included in the EA that accompanied the draft CCP.

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Our Draft CCP and Environmental Assessment (EA) were available for a 30-day public review and comment period, which we announced via several methods, including press releases, updates to constituents, and a Federal Register notice (75 FR 44806, July 29, 2010). The Draft CCP/EA identified and evaluated three alternatives for managing the Refuge for the next 15 years.

Under Alternative A (No Action), management would continue unchanged. Alternative B (the Selected Alternative) would standardize the wildlife monitoring and surveying program; develop a habitat management plan including an adaptive vegetation management plan; assess contaminants and disease; pursue climate change modeling; identify additional habitat for boundary expansion; continue planning and redesign of a breeding pond; assess the need and plan for new breeding ponds; develop habitat, mosquito, and water management plans, and a visitor services plan; improve energy efficiency; develop a trail system; expand the in-class environmental education program to other schools; and expand on-site restoration education. Alternative C includes all actions in Alternative B, and would expand natural resource surveys, expand control of additional priority invasive vegetation, identify buffer habitat for boundary expansion and acquisition, remove invasive wildlife, reintroduce native plants historically found on the Refuge, improve trail access, and improve outreach to the community.

We received 10 letters on the Draft CCP and EA during the review and comment period. Comments focused on mosquito control and listed species management. We incorporated comments we received into the CCP when appropriate, and we responded to the comments in an appendix to the CCP. In the FONSI, we selected Alternative B for implementation. The FONSI documents our decision and is based on the information and analysis contained in the EA.

Under the selected alternative, the Refuge will achieve an optimal balance of biological resource objectives and visitor services opportunities. Habitat management and associated biological resource monitoring will be improved. Visitor service opportunities will focus on quality wildlife-dependent recreation with expanded environmental education opportunities. In addition, interpretation, wildlife observation, and photography programs will be improved and/or expanded.

The selected alternative best meets the Refuges' purposes, vision, and goals; contributes to the Refuge System mission; addresses the significant issues and relevant mandates; and is consistent with principles of sound fish and wildlife management. Based on the associated environmental assessment, this alternative is not expected to result in significant environmental impacts and therefore does not require an environmental impact statement.

Dated: March 7, 2011.
Alexandra Pitts,
Acting Regional Director, Pacific Southwest Region, Sacramento, California.

[FR Doc. 2011-5633 Filed 3-10-11; 8:45 am]

BILLING CODE 4310-55-P